DEPARTMENT OF HOMELAND SECURITY

Coast Guard

[Docket No. USCG-2013-1078]

National Offshore Safety Advisory Committee

AGENCY: Coast Guard, DHS.

ACTION: Notice of Federal Advisory Committee Meetings.

SUMMARY: The National Offshore Safety Advisory Committee (NOSAC) will meet on April 16 and 17, 2014, in New Orleans, LA, to discuss various issues related to safety of operations and other matters affecting the oil and gas offshore industry. These meetings are open to the public.

DATES: Subcommittees of NOSAC will meet on Wednesday, April 16, 2014 from 1 p.m. to 5 p.m. and the full Committee will meet on Thursday, April 17, 2014, from 8:30 a.m. to 4 p.m. Please note these meetings may close early if the Committee has completed its business or be extended based on the number of public comments. All submitted written materials, comments, and request to make oral presentations at the meetings should reach Mr. Scott Hartley, Alternate Designated Federal Officer (ADFO) for NOSAC no later than April 1, 2014. For contact information, please see the FOR FURTHER INFORMATION CONTACT section below. Any written material submitted by the public will be distributed to the Committee and become part of the public record.

ADDRESSES: The meetings will be held at the Wyndham Riverfront New Orleans Hotel, 701 Convention Boulevard, New Orleans, LA 70130, 1-504-681-1053, http://www.wyndham.com/hotels/louisiana/new-orleans/wyndham-riverfront-new-orleans/hotel-overview. The April 16, 2014 afternoon Subcommittee meetings will be held in the Bacchus B Conference Room. The April 17, 2014 full Committee meeting will be held in the Bacchus Conference Room.

For information on facilities or services for individuals with disabilities or to request special assistance at the meetings, contact the person listed in FOR FURTHER INFORMATION CONTACT section, as soon as possible.

To facilitate public participation we are inviting public comment on the issues to be considered by the committee as listed in the “Agenda” section below. Written comments must be submitted no later than April 1, 2014, and must be identified by Docket Number USCG-2013-1078 and submitted by one of the following methods:

• Federal eRulemaking Portal: http://www.regulations.gov. Follow the instructions for submitting comments (Preferred method to avoid delays in processing).

• Fax: (202) 372-8382. Include the docket number (USCG-2013-1078) on the subject line of the fax.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

• To avoid duplication, please use only one of these methods.

Instructions: All submissions received must include the words “Department of Homeland Security” and the docket number for this action. All comments submitted will be posted without alteration at http://www.regulations.gov including any personal information provided. You may review a Privacy Act notice regarding our public dockets in the January 17, 2008, issue of the Federal Register (73 FR 3316).

Docket: For access to the docket to read documents or comments related to this notice, go to http://www.regulations.gov, insert USCG-2013-1078 in the Search box, press Enter, and then click on the item you wish to view.

A public comment period will be held during the meeting on April 17, 2014, and speakers are requested to limit their comments to 3 minutes. Please note that the public comment period may end before the time indicated, following the last call for comments. Contact one of the individuals listed below to register as a speaker.

FOR FURTHER INFORMATION CONTACT: Commander Robert Smith III, Designated Federal Official (DFO) of NOSAC, Commandant (CG-OES-2), U.S. Coast Guard, 2703 Martin Luther King Jr. Avenue SE., Stop 7509, Washington, DC 20593-7509; telephone (202) 372-1410, fax (202) 372-8382 or email Robert.L.Smith@uscg.mil, or Mr. Scott Hartley, telephone (202) 372-1437, fax (202) 372-8382 or email Scott.E.Hartley@uscg.mil. If you have questions on viewing or submitting material to the docket, call Cheryl Collins, Program Manager, Docket Operations, telephone 202-366-9826.

SUPPLEMENTARY INFORMATION: Notice of this meeting is given under the Federal Advisory Committee Act, 5 U.S.C. Appendix 2 (Pub. L. 92-463). NOSAC provides advice and recommendations to the Department of Homeland Security on matters and actions concerning activities directly involved with or in support of the exploration of offshore mineral and energy resources insofar as they relate to matters within U.S. Coast Guard jurisdiction.

A copy of all meeting documentation is available at https://homeport.uscg.mil/NOSAC. Alternatively, you may contact Mr. Scott Hartley as noted in the FOR FURTHER INFORMATION CONTACT section below.

Agenda

Day 1

NOSAC Subcommittees will meet on April 16, 2014 between 1 p.m. and 4 p.m. to review, discuss and formulate recommendations on the following matters:

(1) Commercial Diving Safety on the Outer Continental Shelf (OCS);

(2) Safety and Environmental Management Systems for vessels on the OCS; and

(3) Marine Casualty Reporting on the OCS.

Day 2

NOSAC will meet on April 17, 2014 to review and discuss progress reports and or final reports and recommendations received from the above listed Subcommittees from their deliberations on April 16. The Committee will then use this information and consider public comments in formulating recommendations to the U.S. Coast Guard. Public comments or questions will be taken at the discretion of the DFO during the discussion and recommendation portion of the meeting as well as during public comment period, see Agenda item (7). A complete agenda for April 17 is as follows:

(1) Current Business—Presentation and discussion of progress reports and or final reports and any recommendations from the Subcommittees and subsequent actions on:

(a) Commercial Diving Safety on the Outer Continental Shelf;

(b) Safety and Environmental Management Systems for vessels on the OCS; and

(c) Marine Casualty Reporting on the OCS.

(2) New Business—Introduction of new Task Statements by the Coast Guard:

(a) Offshore Supply Vessel (OSV) Purpose and Offshore Workers; and

(b) Training of personnel on Mobile Offshore Units and

OSVs working on the Outer Continental Shelf.

(3) Biannual Report of Coast Guard Action/Disposition on NOSAC Final Reports;

(4) International Association of Drilling Contractors Health Safety and Environmental Case Guidelines for Mobile Offshore Drilling Units: What they are—and aren't Presentation;

(5) Standards, Training, Credentialing and Watchkeeping Implementation Presentation; and

(6) Oil Companies International Marine Forum (OCIMF) Offshore Vessel Inspection Database Presentation.

(7) Public comment period.

The agenda, progress reports and or draft final reports, new task statements and presentations will be available approximately 7 days prior to the meeting at the https://homeport.uscg.mil/NOSAC Web site or by contacting Mr. Scott Hartley.

Minutes

Minutes from the meeting will be available for public view and copying within 90 days following the meeting at the https://homeport.uscg.mil/NOSAC Web site.

Notice of Future 2014 NOSAC Meetings

To receive automatic email notices of future NOSAC meetings in 2014, go to the online docket, USCG-2013-1078 (http://www.regulations.gov/#!docketDetail:D=USCG-2013-1078), and select the sign-up-for-email-alerts option. We plan to use the same docket number for all NOSAC meeting notices in 2014, so when the next meeting notice is published you will receive an email alert from www.regulations.gov when the notice appears in this docket.

Dated: March 24, 2014.
J.G. Lantz,
Director of Commercial Regulations and Standards.

[FR Doc. 2014-06859 Filed 3-27-14; 8:45 am]

BILLING CODE 9110-04-P